FARM CREDIT ADMINISTRATION

12 CFR Part 650

RIN 3052-AB56

Federal Agricultural Mortgage Corporation; Risk-Based Capital Requirements; Effective Date

AGENCY: Farm Credit Administration.

ACTION: Notice of effective date.

SUMMARY: The Farm Credit Administration (FCA) published a final rule under part 650 on April 12, 2001 (66 FR 19048). In this final rule, we amended our regulations, through the Office of Secondary Market Oversight (OSMO), by establishing risk-based capital regulations for the Federal Agricultural Mortgage Corporation (Farmer Mac). The final rule in part 650 sets forth the risk-based capital regulations for Farmer Mac, including definitions, methods, parameters and guidelines for developing and implementing the risk-based capital stress test; specifies capital calculation, reporting, and compliance requirements; and delineates our monitoring, examination, supervisory, and enforcement activities with respect to Farmer Mac's compliance with the rule's risk-based capital requirements; and prescribes certain requirements for business and capital planning. In accordance with 12 U.S.C. 2252, the effective date of the final rule is 30 days from the date of publication in the Federal Register during which either or both Houses of Congress are in session. Based on the records of the sessions of Congress, the effective date of the regulations is May 23, 2001.

EFFECTIVE DATE: The regulation amending 12 CFR part 650 published on April 12, 2001 (66 FR 19048) is effective May 23, 2001.

FOR FURTHER INFORMATION CONTACT:

Carl A. Clinefelter, Director, Office of Secondary Market Oversight, Farm Credit Administration, McLean, VA 22102-5090, (703) 883-4280, TDD (703) 883-4444, or

Dennis K. Carpenter, Senior Policy Analyst, Office of Policy and Analysis, Farm Credit Administration, McLean, VA 22102-5090, (703) 883-4498, TDD (703) 883-4444, or

Joy Strickland, Senior Counsel, Office of General Counsel, Farm Credit Administration, McLean, VA 22102-5090, (703) 883-4020, TDD (703) 883-4444.

(12 U.S.C. 2252(a)(9) and (10))

Dated: May 18, 2001.
Kelly Mikel Williams,
Secretary, Farm Credit Administration Board.

[FR Doc. 01-13071 Filed 5-22-01; 8:45 am]

BILLING CODE 6705-01-U